DEPARTMENT OF TRANSPORTATION

Federal Highway Administration

Notice of Final Federal Agency Actions on Proposed Highway Projects in Texas

AGENCY: Texas Department of Transportation (TxDOT), Federal Highway Administration (FHWA), U.S. Department of Transportation.

ACTION: Notice of limitation on claims for judicial review of actions by TxDOT and Federal agencies.

SUMMARY: This notice announces actions taken by TxDOT and Federal agencies that are final. The environmental review, consultation, and other actions required by applicable Federal environmental laws for these projects are being, or have been, carried out by TxDOT pursuant to an assignment agreement executed by FHWA and TxDOT. The actions relate to various proposed highway projects in the State of Texas. These actions grant licenses, permits, and approvals for the projects.

DATES: By this notice, TxDOT is advising the public of final agency actions subject to 23 U.S.C. 139(l)(1). A claim seeking judicial review of TxDOT and Federal agency actions on the highway projects will be barred unless the claim is filed on or before the deadline. For the projects listed below, the deadline is June 12, 2023. If the Federal law that authorizes judicial review of a claim provides a time period of less than 150 days for filing such a claim, then that shorter time period still applies.

FOR FURTHER INFORMATION CONTACT: Patrick Lee, Environmental Affairs Division, Texas Department of Transportation, 125 East 11th Street, Austin, Texas 78701; telephone: (512) 416-2358; email: Patrick.Lee@txdot.gov. TxDOT's normal business hours are 8:00 a.m.-5:00 p.m. (central time), Monday through Friday.

SUPPLEMENTARY INFORMATION: The environmental review, consultation, and other actions required by applicable Federal environmental laws for these projects are being, or have been, carried out by TxDOT pursuant to 23 U.S.C. 327 and a Memorandum of Understanding dated December 9, 2019, and executed by FHWA and TxDOT.

Notice is hereby given that TxDOT and Federal agencies have taken final agency actions by issuing licenses, permits, and approvals for the highway projects in the State of Texas that are listed below.

The actions by TxDOT and Federal agencies and the laws under which such actions were taken are described in the Categorical Exclusion (CE), Environmental Assessment (EA), or Environmental Impact Statement (EIS) issued in connection with the projects and in other key project documents. The CE, EA, or EIS and other key documents for the listed projects are available by contacting the local TxDOT office at the address or telephone number provided for each project below.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act [33 U.S.C. 1251-1377] (Section 404, Section 401, Section 319); Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; TEA-21 Wetlands Mitigation [23 U.S.C. 103(b)(6)(m), 133(b)(11)]; Flood Disaster Protection Act [42 U.S.C. 4001-4128].

8. Executive Orders: E.O. 11990 Protection of Wetlands; E.O. 11988 Floodplain Management; E.O. 12898 Federal Actions to Address Environmental Justice in Minority Populations and Low-Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction.)

The projects subject to this notice are:

1. Garth Road from I-10 to SH 146 in Harris County, Texas. The proposed improvements from I-10 to Baker Road would include reconstructing and widening Garth Road from four to six lanes. The proposed roadway would include three 11-foot-wide travel lanes in each direction, a 16-foot-wide noncontinuous raised median, a 6.5-foot sidewalk on the west side, and a 10-foot-wide shared use path on the east side. Right-turn lanes would also be provided at some locations. The proposed improvements from Baker Road to SH 146 would include reconstruction of the existing roadway, adding noncontinuous raised medians, and either a 6.5-foot-wide sidewalk or a 10-foot-wide shared use path adjacent to the roadway. The total project length is approximately 3.73 miles. The actions by TxDOT and Federal agencies and the laws under which such actions were taken are described in the Categorical Exclusion Determination issued on September 13, 2022, and other documents in the TxDOT project file. The Categorical Exclusion Determination and other documents in the TxDOT project file are available by contacting the TxDOT Houston District Office at 7600 Washington Avenue, Houston, TX 77007; telephone: (713) 802-5000.

2. FM 2931 From US 380 to FM 428 in Denton County, Texas. The proposed project would include the widening of FM 2931 to a 6-lane urban roadway section with a raised median and left-turn lanes in various locations within the project limits. The proposed roadway would include three 11- or 12-foot wide (depending on the section) travel lanes in each direction with no shoulders, a raised median, and a 10-foot wide shared use path on each side of the roadway. The proposed project is approximately 6.37 miles in length. The purpose of the proposed project is to improve mobility and safety in the project area. The actions by TxDOT and Federal agencies and the laws under which such actions were taken are described in the Categorical Exclusion Determination issued on September 27, 2022, and other documents in the TxDOT project file. The Categorical Exclusion Determination and other documents in the TxDOT project file are available by contacting TxDOT at the address provided above or the TxDOT Dallas District Office at 4777 E Highway 80, Mesquite, TX 75150; telephone: (214) 320-4480.

3. US 84 in Mexia, from FM 1365 to 1.05 miles East of FM 1365, Limestone County, Texas. This project is approximately 1.05 miles long. Proposed improvements include widening the roadway from two to four lanes with a two-way left-turn lane, upgrading to a closed storm drain system with curb and gutter, and constructing a sidewalk and a shared-use path. This project would require approximately 1.8 acres of new right of way. The actions by TxDOT and Federal agencies and the laws under which such actions were taken are described in the Categorical Exclusion Determination issued on September 28, 2022, and other documents in the TxDOT project file. The Categorical Exclusion and other documents in the TxDOT project file are available by contacting the TxDOT Waco District Office at 100 South Loop Drive, Waco, TX 76704; telephone: (254) 867-2700.

4. IH 69E, from Spur 54 in Harlingen to Spur 413 in Sebastian, Cameron and Willacy Counties, Texas. The purpose of the project is to improve safety and mobility by upgrading the facility to interstate standards, which would include widening and reconstructing IH 69E to a six-lane controlled access facility, with three 12 foot-wide travel lanes in each direction, 10 foot-wide inside and outside shoulders, and ramp improvements. The proposed project length is approximately 12 miles. The actions by TxDOT and Federal agencies and the laws under which such actions were taken are described in the Categorical Exclusion Determination issued on September 30, 2022, and other documents in the TxDOT project file. The Categorical Exclusion Determination and other documents in the TxDOT project file are available by contacting the TxDOT Pharr District Office 600 W Expressway 83, Pharr, TX 78577; telephone: (956) 702-6100.

5. Slaughter Lane from Brodie Lane to South Loop 1 NB (Mopac), Travis County, Texas. The project will improve Slaughter Lane from a four-lane roadway to a six-lane roadway. In addition, new pedestrian/bicycle facilities will be constructed along both sides of Slaughter Lane. The project is approximately 1.6 miles in length. The actions by TxDOT and Federal agencies and the laws under which such actions were taken are described in the Categorical Exclusion Determination issued on September 30, 2022, and other documents in the TxDOT project file. The Categorical Exclusion Determination and other documents in the TxDOT project file are available by contacting the TxDOT Austin District Office at 7901 North I-35, Austin, TX 78753; telephone: (512) 832-7000.

6. FM 1082 Fort Phantom Hill Dam Road Project, from west of Cheyenne Creek Road to east of the Dam, in Jones County, Texas. The project would reconstruct existing FM 1082 due to the failing existing conditions of FM 1082 off the crest of the dam and relocate the roadway to the downstream side north of the lake. The new roadway will be 32 feet-wide with two 11-foot travel lanes and 5-foot outside shoulders. A new bridge will cross Elm Creek at the bottom and will be 34 feet-wide with two 11-foot travel lanes and 5-foot outer shoulders. The actions by TxDOT and Federal agencies and the laws under which such actions were taken are described in the Categorical Exclusion Determination issued on October 7, 2022, and other documents in the TxDOT project file. The Categorical Exclusion Determination and other documents in the TxDOT project file are available by contacting the TxDOT Abilene District Office at 4250 N Clack, Abilene, TX 79601; telephone: (325) 676-6800.

7. SH 151 from Loop 1604 to east of I-410, Bexar County, Texas. The project would widen SH 151 from a four-lane to a six-lane divided roadway. Other improvements include a direct connector from westbound SH 151 to northbound Loop 1604, frontage road improvements, a ramp reversal along Loop 1604, additional exit ramps, a collector distributor and turn-around bridges. The project is approximately 6.5 miles along SH 151 and approximately 2.7 miles along Loop 1604. The actions by TxDOT and Federal agencies and the laws under which such actions were taken are described in the Categorical Exclusion Determination issued on November 15, 2022, and other documents in the TxDOT project file. The Categorical Exclusion Determination and other documents in the TxDOT project file are available by contacting the TxDOT San Antonio District Office at 4615 NW Loop 410, San Antonio, TX 78229; telephone: (210) 615-5839.

8. FM 434 widening project from FM 3400 to the Falls County Line in McLennan County, Texas. The proposed roadway would generally consist of a single 12-foot wide travel lane in each direction with 8-foot wide shoulders. The intersection at FM 3400 would have center and right-turn lanes up to 14-foot wide, as well as striped medians up to 12 feet wide at the intersection. The proposed right-of-way would vary between 100 and 280 feet wide. Access would remain at-grade and non-controlled. No new overpasses, underpasses, or bridges would be constructed, but Bull Hide bridge would be widened 11 feet on the downstream. Approximately 30.90 acres of additional right-of-way would be required for the proposed project, as well as approximately 12.02 acres for permanent drainage easements. The project is approximately 4.78 miles long. The actions by TxDOT and Federal agencies and the laws under which such actions were taken are described in the Categorical Exclusion Determination issued on November 22, 2022, and other documents in the TxDOT project file. The Categorical Exclusion and other documents in the TxDOT project file are available by contacting the TxDOT Waco District Office at 100 South Loop Drive, Waco, TX 76704; telephone: (254) 867-2836.

9. TxDOT, in conjunction with the Dallas/Fort Worth International Airport (DFW Airport), proposes to construct the East-West Connector (Rental Car Drive) project in eastern Tarrant County, Texas. The proposed roadway has project limits from SH 360 to International Parkway (Spur 97) and would consist of a new four-lane, divided urban arterial roadway. The project length is 1.65 miles. The purpose of the project is to reduce travel times and improve mobility to and from the DFW Airport. The actions by TxDOT and Federal agencies and the laws under which such actions were taken are described in the Final Environmental Assessment (EA), the Finding of No Significant Impact (FONSI) issued on September 1, 2022, and other documents in the TxDOT project file. The EA, FONSI, and other documents in the TxDOT project file are available by contacting the TxDOT Fort Worth District Office at 2501 SW Loop 820, Fort Worth, TX 76133; telephone: (817) 370-6772.

10. FM 2220 (Ware Road) from FM 1925 to Mile 5 Road in Hidalgo County, Texas. The purpose of the project is to improve safety and mobility by widening and reconstructing FM 2220 to a six-lane urban facility, to include three 12-foot-wide travel lanes in each direction, 10-foot-wide shoulders, sidewalks, a raised median, and drainage improvements. The proposed project length is approximately 5.4 miles. The actions by TxDOT and Federal agencies and the laws under which such actions were taken are described in the Final Environmental Assessment (EA), the Finding of No Significant Impact (FONSI) issued on October 14, 2022, and other documents in the TxDOT project file. The EA, FONSI, and other documents in the TxDOT project file are available by contacting the TxDOT Pharr District Office at 600 W Expressway 83, Pharr, TX 78577; telephone: (956) 702-6100.

Authority: 23 U.S.C. 139(l)(1).

Michael T. Leary,
Director, Planning and Program Development, Federal Highway Administration.

[FR Doc. 2023-00491 Filed 1-11-23; 8:45 am]

BILLING CODE 4910-22-P